DEPARTMENT OF COMMERCE

National Oceanic and Atmospheric Administration

Notice of Intent To Conduct Scoping and To Prepare a Draft Environmental Impact Statement for the Proposed Wisconsin—Lake Michigan National Marine Sanctuary

AGENCY: Office of National Marine Sanctuaries (ONMS), National Ocean Service (NOS), National Oceanic and Atmospheric Administration (NOAA), Department of Commerce (DOC).

ACTION: Notice of intent to conduct scoping, hold public scoping meetings and to prepare a draft environmental impact statement and management plan.

SUMMARY: In accordance with section 304(a) of the National Marine Sanctuaries Act, as amended, (NMSA) (16 U.S.C. 1431 et seq.), and based on the resources and boundaries described in the community-based nomination submitted to NOAA on December 2, 2014 (www.nominate.noaa.gov/nominations), NOAA is initiating a process to consider designating an area of Wisconsin's Lake Michigan as a national marine sanctuary. The designation process, as required by the NMSA, will be conducted concurrently with a public process under the National Environmental Policy Act (NEPA) (42 U.S.C. 4321 et seq.). This notice also informs the public that NOAA will coordinate its responsibilities under section 106 of the National Historic Preservation Act (NHPA) (16 U.S.C. 470) with its ongoing NEPA process, pursuant to 36 CFR 800.8(a), including the use of NEPA documents and public and stakeholder meetings to also meet the requirements of section 106. The public scoping process is intended to solicit information and comments on the range of issues and the significant issues to be analyzed in depth in an environmental impact statement related to designating this area as a national marine sanctuary. The results of this scoping process will assist NOAA in moving forward with the designation process and in formulating alternatives for the draft environmental impact statement and proposed regulations, including developing national marine sanctuary boundaries. It will also inform the initiation of any consultations with federal, state, or local agencies and other interested parties, as appropriate.

DATES: Comments must be received by January 15, 2016. Public scoping meetings will be held as detailed below:

(1) Manitowoc, WI

Date: November 17, 2015.

Location: Wisconsin Maritime Museum.

Address: 75 Maritime Drive, Manitowoc, WI.

Time: 6:30-8:30 p.m.

(2) Port Washington, WI

Date: November 18, 2015.

Location: Wilson House.

Address: 200 N. Franklin St., Port Washington, WI.

Time: 6:30-8:30 p.m.

(3) Sheboygan, WI

Date: November 19, 2015.

Location: University of Wisconsin-Sheboygan, Main Building, Wombat Room (Room 2114).

Address: 1 University Drive, Sheboygan, WI.

Time: 6:30-8:30 p.m.

ADDRESSES: Comments may be submitted by any one of the following methods:

• Electronic Submissions: Submit all electronic public comments via the Federal e-Rulemaking Portal. Go to www.regulations.gov//#!docketDetail;D=NOAA-NOS-2015-0112, click the “Comment Now!” icon, complete the required fields and enter or attach your comments.

• Mail: Ellen Brody, Great Lakes Regional Coordinator, 4840 S. State Road, Ann Arbor, MI 48108-9719.

Instructions: Comments sent by any other method, to any other address or individual, or received after the end of the comment period, may not be considered by NOAA. All comments received are a part of the public record and will generally be posted for public viewing on www.regulations.gov without change. All personal identifying information (for example, name, address, etc.), confidential business information, or otherwise sensitive information submitted voluntarily submitted by the commenter will be publicly accessible. NOAA will accept anonymous comments (enter “N/A” in the required fields if you wish to remain anonymous).

FOR FURTHER INFORMATION CONTACT: Ellen Brody, Great Lakes Regional Coordinator, 734-741-2270, ellen.brody@noaa.gov.

SUPPLEMENTARY INFORMATION:

I. Background

The NMSA authorizes the Secretary of Commerce (Secretary) to designate and protect as national marine sanctuaries areas of the marine environment that are of special national significance due to their conservation, recreational, ecological, historical, scientific, cultural, archeological, educational, or esthetic qualities. Day-to-day management of national marine sanctuaries has been delegated by the Secretary to ONMS. The primary objective of the NMSA is to protect the biological and cultural resources of the sanctuary system, such as coral reefs, marine animals, historic shipwrecks, historic structures, and archaeological sites.

The area being considered for designation as a national marine sanctuary is a region that includes 875 square miles of Lake Michigan waters and bottomlands adjacent to Manitowoc, Sheboygan, and Ozaukee counties and the cities of Port Washington, Sheboygan, Manitowoc, and Two Rivers. It includes 80 miles of shoreline and extends 9 to 14 miles from the shoreline. The area contains an extraordinary collection of submerged maritime heritage resources as demonstrated by the listing of 15 shipwrecks on the National Register of Historic Places. The area includes 39 known shipwrecks, 123 reported vessel losses, numerous other historic maritime-related features, and is adjacent to communities that have embraced their centuries-long relationship with Lake Michigan.

This collection of shipwrecks is nationally significant because of the architectural and archaeological integrity of the shipwrecks, the representative nature of the sample of vessels, their location on one of the nation's most important transportation corridors, and the potential for the discovery of other shipwrecks and submerged pre-contact cultural sites. The historic shipwrecks are representative of the vessels that sailed and steamed this corridor, carrying grain and raw materials east as other vessels came west loaded with coal. Many of the shipwrecks retain an unusual degree of architectural integrity, with 15 vessels that are intact. NOAA encourages the public to review the full nomination at www.nominate.noaa.gov/nominations.

II. Need for action

Wisconsin Governor Scott Walker, on behalf of the State of Wisconsin; the Cities of Two Rivers, Manitowoc, Sheboygan, and Port Washington; the Counties of Manitowoc, Sheboygan, and Ozaukee submitted a nomination to NOAA on December 2, 2014 through the Sanctuary Nomination Process (SNP) (79 FR 33851) asking NOAA to consider designating this area of Wisconsin's Lake Michigan waters as a national marine sanctuary. The State of Wisconsin's selection of this geographic area for the nomination drew heavily from a 2008 report conducted by the Wisconsin History Society and funded by the Wisconsin Coastal Management Program (Wisconsin's Historic Shipwrecks: An Overview and Analysis of Locations for a State/Federal Partnership with the National Marine Sanctuary Program, 2008). This report analyzed all Wisconsin shipwrecks in both Lake Superior and Lake Michigan, concluding that the 875-square-mile area in the nomination had the best potential for a national marine sanctuary designation based on the national significance of the shipwrecks. The nomination also identified opportunities for NOAA to strengthen and expand on resource protection, education, and research programs by state of Wisconsin agencies and in the four communities along the Lake Michigan coast.

NOAA is initiating the process to designate this area as a national marine sanctuary based on the nomination submitted to the agency as part of the SNP. NOAA's review of the nomination against the criteria and considerations of the SNP, including the requirement for broad-based community support indicated strong merit in proposing this area as a national marine sanctuary. NOAA completed its review of the nomination on February 5, 2015, and added the area to the inventory of nominations that are eligible for designation. Designation under the NMSA would allow NOAA to supplement and complement work by the State of Wisconsin and other federal agencies to protect this collection of nationally significant shipwrecks.

III. Process

The process for designating the Wisconsin—Lake Michigan area as a national marine sanctuary includes the following stages:

1. Public Scoping Process—Information collection and characterization, including the consideration of public comments received during scoping;

2. Preparation and release of draft designation documents including a draft environmental impact statement (DEIS) that identifies boundary alternatives, a draft management plan (DMP), as well as a notice of proposed rulemaking (NPRM) to define proposed sanctuary regulations. Draft documents would be used to initiate consultations with federal, state, or local agencies and other interested parties, as appropriate;

3. Public review and comment on the DEIS, DMP and NPRM;

4. Preparation and release of a final environmental impact statement, final management plan, including a response to public comments, with a final rule and regulations, if appropriate.

With this notice, NOAA is initiating a public scoping process to:

1. Gather information and public comments from individuals, organizations, and government agencies on the designation of the Wisconsin—Lake Michigan area as a national marine sanctuary based on the community-based nomination of December 2014, especially: (a) The spatial extent of the proposed boundary; and (b) the resources that would be protected;

2. Help determine the scope and significance of issues to be addressed in the preparation of an environmental analysis under NEPA including socioeconomic impacts of designation, effects of designation on cultural and biological resources, and threats to resources within the proposed area;

3. Help determine the proposed action and possible alternatives pursuant to NEPA and to conduct any appropriate consultations.

IV. Consultation Under Section 106 of the National Historic Preservation Act

This notice confirms that NOAA will fulfill its responsibility under section 106 of the National Historic Preservation Act (NHPA) through the ongoing NEPA process, pursuant to 36 CFR 800.8(a) including the use of NEPA documents and public and stakeholder meetings to meet the section 106 requirements. The NHPA specifically applies to any agency undertaking that may affect historic properties. Pursuant to 36 CFR 800.16(1)(1), historic properties includes: “any prehistoric or historic district, site, building, structure or object included in, or eligible for inclusion in, the National Register of Historic Places maintained by the Secretary of the Interior. The term includes artifacts, records, and remains that are related to and located within such properties. The term includes properties of traditional religious and cultural importance to an Indian tribe or Native Hawaiian organization and that meet the National Register criteria.” In fulfilling its responsibility under the NHPA and NEPA, NOAA intends to identify consulting parties; identify historic properties and assess the effects of the undertaking on such properties; initiate formal consultation with the State Historic Preservation Officer, the Advisory Council of Historic Preservation, and other consulting parties; involve the public in accordance with NOAA's NEPA procedures, and develop in consultation with identified consulting parties alternatives and proposed measures that might avoid, minimize or mitigate any adverse effects on historic properties and describe them in any environmental assessment or draft environmental impact statement.

Authority: 16 U.S.C. 1431 et seq.

Dated: September 30, 2015.
John Armor,
Acting Director for the Office of National Marine Sanctuaries.

[FR Doc. 2015-25398 Filed 10-2-15; 8:45 am]

BILLING CODE 3510-NK-P